Proclamation 7849 of November 23, 2004

Thanksgiving Day, 2004

By the President of the United States of America

A Proclamation

All across America, we gather this week with the people we love to give thanks to God for the blessings in our lives. We are grateful for our freedom, grateful for our families and friends, and grateful for the many gifts of America. On Thanksgiving Day, we acknowledge that all of these things, and life itself, come from the Almighty God.

Almost four centuries ago, the Pilgrims celebrated a harvest feast to thank God after suffering through a brutal winter. President George Washington proclaimed the first National Day of Thanksgiving in 1789, and President Lincoln revived the tradition during the Civil War, asking Americans to give thanks with “one heart and one voice.” Since then, in times of war and in times of peace, Americans have gathered with family and friends and given thanks to God for our blessings.

Thanksgiving is also a time to share our blessings with those who are less fortunate. Americans this week will gather food and clothing for neighbors in need. Many young people will give part of their holiday to volunteer at homeless shelters and food pantries. On Thanksgiving, we remember that the true strength of America lies in the hearts and souls of the American people. By seeking out those who are hurting and by lending a hand, Americans touch the lives of their fellow citizens and help make our Nation and the world a better place.

This Thanksgiving, we express our gratitude to our dedicated firefighters and police officers who help keep our homeland safe. We are grateful to the homeland security and intelligence personnel who spend long hours on faithful watch. And we give thanks for the Americans in our Armed Forces who are serving around the world to secure our country and advance the cause of freedom. These brave men and women make our entire Nation proud, and we thank them and their families for their sacrifice.

On this Thanksgiving Day, we thank God for His blessings and ask Him to continue to guide and watch over our Nation.

NOW, THEREFORE, I, GEORGE W. BUSH, President of the United States of America, by virtue of the authority vested in me by the Constitution and laws of the United States, do hereby proclaim Thursday, November 25, 2004, as a National Day of Thanksgiving. I encourage all Americans to gather together in their homes and places of worship to reinforce the ties of family and community and to express gratitude for the many blessings we enjoy.

IN WITNESS WHEREOF, I have hereunto set my hand this twenty-third day of November, in the year of our Lord two thousand four, and of the Independence of the United States of America the two hundred and twenty-ninth.

B

[FR Doc. 04-26443

Filed 11-26-04; 8:45 am]

Billing code 3195-01-P